DEPARTMENT OF THE TREASURY

Community Development Financial Institutions Fund

ACTION: Notice and request for public comment.

SUMMARY: The Department of the Treasury, as part of its continuing effort to reduce paperwork and respondent burden, invites the general public and other Federal agencies to take this opportunity to comment on proposed and/or continuing information collections, as required by the Paperwork Reduction Act of 1995. Currently, the Community Development Financial Institutions Fund (CDFI Fund), U.S. Department of the Treasury, is soliciting comments concerning the Community Development Financial Institutions CDFI Program (CDFI Program) and New Markets Tax Credit Program (NMTC Program) Annual Report including the Awards Management and Information System (AMIS) Compliance and Performance Reporting (ACPR).

DATES: Written comments must be received on or before April 27, 2020 to be assured of consideration.

ADDRESSES: Submit your comments via email to Greg Bischak, Program Manager for Financial Strategies and Research, CDFI Fund, at CDFI-FinancialStrategiesandResearch@cdfi.treas.gov.

FOR FURTHER INFORMATION CONTACT: Greg Bischak, Program Manager for Financial Strategies and Research, Community Development Financial Institutions Fund, U.S. Department of the Treasury, 1500 Pennsylvania Ave. NW, Washington, DC 20220 or by telephone at (202) 653-0300. Other information regarding the CDFI Fund and its programs may be obtained through the CDFI Fund's website at http://www.cdfifund.gov.

SUPPLEMENTARY INFORMATION:

Title: CDFI Program and NMTC Program Annual Report including AMIS.

OMB Number: 1559-0027.

Abstract: This collection captures quantitative information from Community Development Financial Institutions (CDFIs) and Community Development Entities (CDEs) at the institution and transaction levels. This information is used to assess: (1) The recipient's/allocatee's activities as detailed in its application materials; (2) the recipient's/allocatee's approved use of the assistance; (3) the recipient's/allocatee's financial condition; (4) the socio-economic characteristics of recipient's/allocatee's borrowers/investees, loan and investment terms, repayment status, and community development outcomes; and (5) overall compliance with the terms and conditions of the assistance/allocation agreement entered into by the CDFI Fund and the recipient/allocatee.

A CDFI Program or Native American CDFI Assistance Program (NACA Program) recipient must submit an Annual Report that is comprised of several sections that depend on the program and the type of award. The specific components that comprise a recipient's Annual Report are set forth in the assistance agreement that the recipient enters into with the CDFI Fund in order to receive a CDFI Program or a NACA Program award. The current CDFI/NACA reporting requirements can be found in the assistance agreement templates located on the CDFI Fund website at www.cdfifund.gov.

For CDFI/NACA recipients, three significant changes were made to annual reporting. First, as part of its IT modernization strategy, the CDFI Fund developed a unified technology platform called the Awards Management Information System (AMIS) that facilitates better data collection and efficiency for users, improves data validations, and enhances computing capacity. Second, in developing the AMIS-based Compliance and Performance Reporting platform (ACPR), we sought to reduce the reporting burden by eliminating the Institution Level Report (ILR) which cut aggregate recipient reporting time by 3,066 hours. Third, the CDFI/NACA Transaction Level Report (TLR) requirements were substantially reduced by 70% by limiting transactional reporting to only newly originated and closed loans and investments and eliminating reporting on outstanding loans and investments.

For NMTC Program allocatees, the reporting structure remained the same. Each allocatee must submit an Annual Report that comprises: (i) A financial statement that has been audited by an independent certified public accountant; (ii) an Institution Level Report (ILR) (including the IRS Compliance Questions section), if the allocatee has issued any Qualified Equity Investments; and (iii) a Transaction Level Report (TLR) if the allocatee has issued any Qualified Low-Income Community Investments in the form of loans or investments. The components that comprise an allocatee's Annual Report are set forth in the allocation agreement that the allocatee enters into with the CDFI Fund in order to receive a NMTC Program allocation. These NMTC requirements can be found in the allocation agreement templates located on the CDFI Fund website at www.cdfifund.gov. With the efficiency gains from the implementation of AMIS, the average NMTC reporting time has gone down slightly, while the total number of reporting entities has remained the same so there is a slight net reduction in total burden. Altogether, the total annual burden for both CDFI/NACA and NMTC annual reporting has decreased substantially from 53,175 hours in 2017 to 34,000 hours in 2020.

Type of Review: Regular Review.

Affected Public: CDFIs and CDEs; including businesses or other for-profit institutions, non-profit entities, and State, local and Tribal entities participating in CDFI Fund programs.

Estimated Number of Respondents:

CDFI Annual TLR: 300.

NMTC Annual TLR and ILR: 275.

Estimated Annual Time (in hours) per Respondent:

CDFI Annual TLR: 40.

NMTC Annual TLR and ILR: 80.

Estimated Total Annual Burden in Hours: 34,000.

CDFI Annual TLR: 12,000.

NMTC Annual TLR and ILR: 22,000.

Request for Comments: Comments submitted in response to this notice will be summarized and/or included in the request for OMB approval. All comments will become a matter of public record. Comments are invited on all aspects of the information collections, but commentators may wish to focus particular attention on: (a) The cost for CDFIs and CDEs to operate and maintain the services/systems required to provide the required information; (b) ways to enhance the quality, utility, and clarity of the information to be collected; (c) whether the collection of information is necessary for the proper evaluation of the effectiveness and impact of the CDFI Fund's programs, including whether the information has practical utility; (d) the accuracy of the CDFI Fund's estimate of the burden of the collection of information; (e) ways to minimize the burden of the collection of information including through the use of technology, such as software for internal accounting and geocoding to capture geographic detail while streamlining and aggregating TLR reporting for upload to AMIS, and; (f) what methods might be used to improve the data quality, internal accounting and efficiency of reporting transactions for serving other targeted populations.

Please note that this request for public comment is necessary in order to renew the OMB data collection 1559-0027 under the Paperwork Reduction Act, (formerly CIIS) and now executed through AMIS. Later in 2020 the CDFI Fund plans to publish a request for public comment to solicit feedback on proposed additions and revisions to the NMTC and CDFI TLRs and estimates on reporting burdens which are not contained in this notice.

(Authority: 12 U.S.C. 4707 et seq.; 26 U.S.C. CFR part 1805)

Jodie Harris,
Director, Community Development Financial Institutions Fund.

[FR Doc. 2020-03748 Filed 2-24-20; 8:45 am]

BILLING CODE 4810-70-P